ENVIRONMENTAL PROTECTION AGENCY

[FRL-9274-7]

Science Advisory Board Staff Office; Notification of a Public Meeting of the Chartered Science Advisory Board

AGENCY: Environmental Protection Agency (EPA).

ACTION: Notice.

SUMMARY: The Environmental Protection Agency (EPA) Science Advisory Board (SAB) Staff Office announces a public meeting of the Chartered SAB to consider a draft report commenting on the President's requested FY 2012 budget for EPA research and to discuss SAB plans to provide advice on Office of Research and Development (ORD) strategic research directions.

DATES: The public meeting will be held on Tuesday, March 22, 2011 from 1 p.m. to 5:30 p.m. and Wednesday, March 23, 2011 from 8:30 a.m. to 12 p.m. (Eastern Daylight Time).

ADDRESSES: The meeting will be held at the Umstead Hotel, Cary, North Carolina.

FOR FURTHER INFORMATION CONTACT: Any member of the public who wants further information concerning the meeting may contact Dr. Angela Nugent, Designated Federal Officer (DFO), EPA Science Advisory Board (1400R), U.S. Environmental Protection Agency, 1200 Pennsylvania Avenue, NW., Washington, DC 20460; via telephone/voice mail (202) 564-2218, fax (202) 565-2098; or e-mail at nugent.angela@epa.gov. General information concerning the SAB can be found on the EPA Web site at http://www.epa.gov/sab.

SUPPLEMENTARY INFORMATION: Background: The SAB was established pursuant to the Environmental Research, Development, and Demonstration Authorization Act (ERDAA), codified at 42 U.S.C. 4365, to provide independent scientific and technical advice to the Administrator on the technical basis for Agency positions and regulations. The SAB is a Federal Advisory Committee chartered under the Federal Advisory Committee Act (FACA), 5 U.S.C., App. 2. Pursuant to FACA and EPA policy, notice is hereby given that the SAB will hold a public meeting to consider a draft report on the President's requested FY 2012 budget for research and to discuss SAB plans to provide advice on ORD strategic research directions. The SAB will comply with the provisions of FACA and all appropriate SAB Staff Office procedural policies.

As announced in the Federal Register (76 FR 7198-7199), an SAB Research Budget Work Group met on March 3-4, 2011 to review the President's requested Fiscal Year 2012 research budget for EPA. The chartered SAB will discuss the work group's draft report and reach agreement on comments to provide the EPA Administrator and the Congress on the adequacy of the President's requested research budget for the next fiscal year in light of EPA's research needs.

Since the last meeting of the chartered SAB on September 22-22, 2010 (75 FR 52940-52941), ORD has restructured its research program into six major program areas: Air, Climate, and Energy; Safe and Sustainable Water Resources; Sustainable and Healthy Communities; Chemical Safety and Sustainability; Human Health Risk Assessment; and Homeland Security. The chartered SAB will receive an update on implementation of these new program areas and initiate discussions with ORD and representatives of ORD's Board of Scientific Councilors about plans to review ORD's new strategic research directions.

Availability of Meeting Materials: A meeting agenda and other materials for the meeting will be placed on the SAB Web site at http://epa.gov/sab.

Procedures for Providing Public Input: Interested members of the public may submit relevant written or oral information for consideration on the topics included in this advisory activity. Oral Statements: To be placed on the public speaker list for the March 22-23, 2011 meeting, interested parties should notify Dr. Angela Nugent, DFO, by e-mail no later than March 15, 2011. Individuals making oral statements will be limited to five minutes per speaker. Written Statements: Written statements for the March 22-23, 2011 meeting should be received in the SAB Staff Office by March 15, 2011, so that the information may be made available to the SAB for its consideration prior to this meeting. Written statements should be supplied to the DFO in the following formats: one hard copy with original signature and one electronic copy via e-mail (acceptable file format: Adobe Acrobat PDF, MS Word, WordPerfect, MS PowerPoint, or Rich Text files in IBM-PC/Windows 98/2000/XP format). Submitters are asked to provide electronic versions of each document submitted with and without signatures, because the SAB Staff Office does not publish documents with signatures on its Web sites.

Accessibility: For information on access or services for individuals with disabilities, please contact Dr. Nugent at the phone number or e-mail address noted above, preferably at least ten days prior to the meeting, to give EPA as much time as possible to process your request.

Dated: February 23, 2011.
Anthony F. Maciorowski,
Deputy Director, EPA Science Advisory Board Staff Office.

[FR Doc. 2011-4639 Filed 3-1-11; 8:45 am]

BILLING CODE 6560-50-P